DEPARTMENT OF AGRICULTURE

Rural Housing Service

Notice of Solicitation of Applications for the Multifamily Preservation and Revitalization Demonstration Program Under Section 514, Section 515, and Section 516; Correction

AGENCY: Rural Housing Service, USDA.

ACTION: Notice; correction.

SUMMARY: This document corrects four items in the initial Notice that published in the Federal Register on September 5, 2017, entitled “Notice of Solicitation of Applications for the Multifamily Preservation and Revitalization (MPR) Demonstration Program Under Section 514, Section 515, and Section 516.” These items revise and clarify the application submission dates, transfer deferral only approval timelines and Agency processing actions.

DATES: This correction is effective September 18, 2018.

FOR FURTHER INFORMATION CONTACT: Dean Greenwalt, dean.greenwalt@wdc.usda.gov, (314) 457-5933, and/or Abby Boggs, abby.boggs@wdc.usda.gov, (615) 783 1382, Preservation and Direct Loan Division, STOP 0782 (Room 1263-S), U.S. Department of Agriculture, Rural Development, 1400 Independence Avenue SW, Washington, DC 20250-0782. (Please note these telephone numbers are not toll-free numbers.)

SUPPLEMENTARY INFORMATION: In FR Doc. 2017-18753 of September 5, 2017 (82 FR 41914), make the following corrections:

Corrections

(1) On page 41915 in the first column, second line, continues the paragraph from the previous page under item (2) of the Date section where the last sentence reads “September 28, 2018”, replace with “April 30, 2019” in its place.

(2) On page 41917 in the first column, sixth paragraph, delete last sentence “This tool is available only to project owners where all Agency mortgages on the property are maturing on or before December 31, 2023.”

(3) On page 41925 in the first, column second, paragraph replaced with the following:

“Complete project information must be submitted as soon as possible, but in no case later than April 30, 2019. MPR transfer applicants must submit a final transfer request as required by 7 CFR 3560.406 (c), no later than May 31, 2019. These deadlines will not be extended, so please plan your transaction's timeline accordingly.”

(4) On page 41925 in the first column, the third paragraph, is replaced with the following:

“Any pre-applications that have not received an Agency's Conditional Commitment for MPR funding, other than MPR deferral only transfers, will be considered withdrawn on August 30, 2019. MPR deferral only transfers approved subject to the availability of MPR funding will continue to be processed subject to the respective transfer approval conditions. These deadlines will not be extended, so please plan your transaction's timeline accordingly. Applicants may reapply for funding under future rounds and/or Notices as they may be made available.”

Dated: September 7, 2018.
Joel C. Baxley,
Administrator, Rural Housing Service.

[FR Doc. 2018-20215 Filed 9-17-18; 8:45 am]

BILLING CODE 3410-XV-P